DEPARTMENT OF TRANSPORTATION

Federal Aviation Administration

[Docket No. FAA-2021-0361]

Agency Information Collection Activities: Requests for Comments; Clearance of a New Approval of Information Collection: Inspection Authorization Refresher Course Acceptance Form AGENCY: Federal Aviation Administration (FAA), DOT.

ACTION: Notice and request for comments.

SUMMARY: In accordance with the Paperwork Reduction Act of 1995, the FAA invites public comments about our intention to request the Office of Management and Budget (OMB) approval for a new information collection. The collection is from persons or entities that desire to provide Inspection Authorization (IA) refresher courses for the purpose of IA renewal. The course providers complete FAA Form 8610-6 to substantiate their courses and administrative procedures are acceptable to the Administrator as required by 14 CFR 65.93(a)(4).

DATES: Written comments should be submitted by June 28, 2021.

ADDRESSES: Please send written comments:

By Electronic Docket: https://www.regulations.gov (Enter docket number into search field).

By email: Robert Warren, robert.w.warren@faa.gov.

FOR FURTHER INFORMATION CONTACT: Robert Warren by email at: robert.w.warren@faa.gov; phone: 202-267-1711

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Inspection Authorization Refresher Course Acceptance Form.

Form Numbers: FAA Form 8610-6.

Type of Review: The form is new and so is the OMB control number, however this information was previously collected by FAA Order 8900.1 Volume 3 Chapter 56 Section 1.

Background: Successful completion of a refresher course acceptable to the Administrator is one method available for mechanics renewing their Inspection Authorization in accordance with 14 CFR 65.93. The information requested by the form enables the FAA to determine if the IA refresher course providers offer course content that meets the intent of the regulation, 14 CFR part 65.93(a)(4). The form also seeks substantiation of the course provider's administrative processes to ensure recordkeeping of the training provided to IA mechanics that have taken their courses.

Respondents: Persons or entities who have applied for or received notification of accepted courses to conduct IA refresher training. Course providers or course provider applicants may submit a course for acceptance at any time. Currently, there are approximately 160 IA refresher course providers, who submit approximately 13 initial course acceptance requests, 12 course changes, and 375 course renewal requests each year. Each course provider also has recordkeeping responsibilities for the IA mechanics that complete their refresher courses.

Frequency: Accepted refresher courses are valid for four years and a renewal should be requested by the course provider prior to course expiration to ensure continued eligibility. On occasion, course providers submit course changes for approval when course revisions are made.

Course provider record keeping is a function of the number of courses offered to IA mechanics.

Estimated Average Form Completion Burden per Response: The FAA estimates an average of 1 hour per course submission, to include initial submission, course changes, and course renewals. This results in an estimated annual submission burden of 400 hours.

Estimated Average Record Keeping Burden per Trainee: Course providers are obligated to record the training of the IA's that complete their refresher courses. The FAA estimates recording of the training to take .1 hours per trainee. The estimated annual recordkeeping burden is 6,576 hours.

Estimated Total Annual Burden: The combined sum of the course acceptance submission burden and record keeping burden is an estimated 6,976 hours.

Issued in Washington, DC, on April 26, 2021.
Robert W. Warren,
Aviation Safety Inspector, Office of Safety Standards, Aircraft Maintenance Division, General Aviation Branch.

[FR Doc. 2021-08972 Filed 4-28-21; 8:45 am]

BILLING CODE 4910-13-P